DEPARTMENT OF ENERGY

Federal Energy Regulatory Commission

[Docket No. EG01-44-000]

Oildale Energy LLC; Notice of Application for Commission Determination of Exempt Wholesale Generator Status

December 12, 2001.

Take notice that on December 6, 2001, Oildale Energy LLC (Applicant) filed with the Federal Energy Regulatory Commission (Commission) an Application for Determination of Exempt Wholesale Generator Status pursuant to part 365 of the Commission's regulations and section 32 of the Public Utility Holding Company Act of 1935, as amended.

Applicant is a California limited liability company that owns and operates a gas-fired topping-cycle cogeneration facility located in Oildale, Kern County, California (Facility) that operates in simple-cycle mode. The Facility produces steam and utilizes a high temperature fluid that is also supplied to the steam host as a heat transfer medium. The Facility generally produces about 40.6MW (gross) and 40.0 MW (net) of electricity and approximately 70,000 lbs/hr of high pressure steam while producing 30,000 lbs/hr of low pressure steam, and approximately 75 MMBtu/hr of thermal energy. The principal components of the Facility are a steam injected GE LM6000 gas turbine and a waste heat recovery steam generator capable of producing high and low pressure steam as well as heating a high temperature fluid. The Facility as currently configured includes certain transmission interconnection facilities necessary to effect the sale of electric energy at wholesale and interconnect the Facility to the transmission grid. All of the electricity generated by the Facility is sold exclusively at wholesale.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before January 2, 2002. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-31120 Filed 12-17-01; 8:45 am]

BILLING CODE 6717-01-P